DEPARTMENT OF DEFENSE

Department of the Army; Corps of Engineers

Intent To Prepare a Draft Programmatic Environmental Impact Statement for the Beneficial Use of Dredged Material Program Study as Introduced in the 2004 Louisiana Coastal Area, Louisiana Ecosystem Restoration Study, Programmatic Environmental Impact Statement

AGENCY: Department of the Army, U.S. Army Corps of Engineers, DoD.

ACTION: Notice of intent.

SUMMARY: The U.S. Army Corps of Engineers, New Orleans District, is initiating this study under the authority provided by the resolutions adopted by the Committees on Public Works of the U.S. Senate and House of Representatives, dated April 19, 1967 and October 19, 1967, respectively, an expansion of the authority created under section 3 of the River and Harbor Act approved June 13, 1902. The Louisiana Coastal Area (LCA) Beneficial Use of Dredged Material Program will optimize the use of dredged material resulting from the maintenance of federally maintained navigational channels to (1) restore formerly existing coastal wetlands; (2) reduce, halt or reverse the loss of existing coastal wetlands; (3) create coastal wetlands where none existed previously; or (4) provide protection to any of the above wetland situations or other coastal landscape features within the study placement area. The LCA Beneficial Use of Dredged Material Program costs are those costs incurred above and beyond the ordinary costs incurred with USACE Operations and Maintenance dredging and disposal operations in accordance with their established base plan for maintenance dredging activities. The base plan is determined by applying the Federal Standard which requires maintenance dredging and disposal activities to be conducted in the most cost effective, environmentally acceptable manner. The study area is Louisiana's coastal area from Mississippi to Texas. Louisiana parishes included in the study area include Ascension, Assumption, Calcasieu, Cameron, Iberia, Jefferson, Lafourche, Livingston, Orleans, Plaquemines, St. Bernard, St. Charles, St. James, St. John the Baptist, St. Martin, St. Mary, St. Tammany, Tangipahoa, Terrebonne, and Vermilion. The following seven navigation channels represent an initial list of areas with the most significant opportunities

(1) Calcasieu River and Pass;

(2) Houma Navigation Canal;

(3) Atchafalaya River and Bayous Chene, Boeuf, and Black;

(4) Bayou Lafourche;

(5) Mississippi River and Tributaries Project, Head of Passes and Southwest Pass;

(6) Barataria Bay Waterway; and

(7) Mississippi River Gulf Outlet (although this channel is not currently funded for O&M dredging).

FOR FURTHER INFORMATION CONTACT: Questions concerning the Programmatic Environmental Impact Statement (EIS) should be addressed to Ms. Elizabeth McCasland at U.S. Army Corps of Engineers, PM-RS, P.O. Box 60267, New Orleans, LA 70160-0267, phone (504) 862-2021, fax number (504) 862-2088 or by E-mail at Elizabeth.L.McCasland@mvn02.usace.army.mil.

SUPPLEMENTARY INFORMATION: 1. Alternatives. Alternatives recommended for consideration presently include the No Action plan, to use dredged materials only within the current federal standard which is not necessarily for beneficial use. Within each channel alternative marsh creation or nourishment sites would be examined to maximize the environmental benefits, environmental need, and the engineering required to get the material to the site. Also, unlike Section 204, Beneficial Uses of Dredged Material, of the Continuing Authorities Program, the LCA Beneficial Use of Dredged Material Program would allow site preparation (such as construction of retention dikes) in anticipation of a future (i.e., 1-3 years out) dredging cycle.

2. Non-Federal local sponsor. The State of Louisiana, acting through the Louisiana Department of Natural Resources, is the non-Federal local sponsor. The study cost share ratio is 50% Federal and 50% non-Federal.

3. Scoping. Scoping is the process for determining the scope of alternatives and significant issues to be addressed in the Programmatic EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

Public scoping meetings will be held mid-July 2006 in multiple cities across the southern portion of Louisiana. Additional meetings could be held, depending upon interest and if it is determined that further public coordination is warranted.

4. Significant Issues. The tentative list of resources and issues to be evaluated in the Programmatic EIS includes wetlands (marshes and swamps), aquatic resources, commercial and recreational fisheries, wildlife resources, essential fish habitat, water quality, air quality, threatened and endangered species, recreation resources, and cultural resources. Socioeconomic items to be evaluated in the Programmatic EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The Programmatic draft EIS (DEIS) or a notice of its availability will be distributed to all interested agencies, organizations, and individuals.

6. Estimated Date of Availability. The Programmatic DEIS is expected to be available in the summer of 2007.

Dated: June 19, 2006.
Richard P. Wagenaar,
Colonel, U.S. Army, District Commander.

[FR Doc. E6-10273 Filed 6-29-06; 8:45 am]

BILLING CODE 3710-84-P